DEPARTMENT OF COMMERCE

Foreign-Trade Zones Board

[Docket 37-2004]

Foreign-Trade Zone 50, Long Beach, CA, Request for Manufacturing Authority (Transceiver Radios)

An application has been submitted to the Foreign-Trade Zones Board (the Board) by Metro International Trade Services LLC, operator of FTZ 50, requesting authority on behalf of Maney Aircraft, Inc. (Maney) for the manufacture of multi-mission tactical transceiver radios under FTZ procedures within Site 2 of FTZ 50 in Ontario, California. The application was submitted pursuant to the provisions of the Foreign-Trade Zones Act, as amended (19 U.S.C. 81a-81u), and the regulations of the Board (15 CFR part 400). It was formally filed on August 19, 2004.

Maney operates a 15,000 square foot warehousing and manufacturing facility within Site 2 of FTZ 50 for the manufacture of transceiver radios. The finished products would enter the United States duty free. Imported inputs are projected to comprise 50 percent of the value of finished products produced under FTZ procedures.

The company indicates that the foreign inputs that may be admitted under FTZ procedures include the following: power supplies; tuners; receivers; transmitters; fuses; switches; electrical distribution ducts; junction boxes; microphones; speakers; headsets; audio-frequency electric amplifiers; electric sound amplifier sets; plastic handles and knobs; lead-acid storage batteries; nickel-cadmium storage batteries; nickel-iron storage batteries; and other storage batteries. Duty rates on the proposed imported components currently range from duty-free to 6.5 percent.

This application requests authority to allow Maney to conduct the activity under FTZ procedures, which would exempt the company from Customs duty payments on the foreign components used in export activity. On its domestic sales, the company would be able to choose the duty rate that applies to finished products for the foreign components noted above. The application also indicates that the company will derive savings from simplification and expediting of the company's import and export procedures. Maney's application states that the above-cited savings from zone procedures could help improve the company's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is October 29, 2004. Rebuttal comments in response to material submitted during the foregoing period may be submitted during the subsequent 15-day period to November 15, 2004.

A copy of the application and accompanying exhibits will be available for public inspection at the Office of the Foreign-Trade-Zones Board's Executive Secretary at the first address listed above, and at the Los Angeles (Downtown) U.S. Export Assistance Center, 444 S. Flower, 34th Floor, Los Angeles, CA 90071.

Dated: August 23, 2004.
Dennis Puccinelli,
Executive Secretary.

[FR Doc. 04-19727 Filed 8-27-04; 8:45 am]

BILLING CODE 3510-DS-P